DEPARTMENT OF EDUCATION

Capacity Building for Traditionally Underserved Populations

AGENCY: Office of Special Education and Rehabilitative Services, Department of Education.

ACTION: Notice of proposed priorities.

SUMMARY: The Assistant Secretary for the Office of Special Education and Rehabilitative Services proposes priorities under the Capacity Building for Traditionally Underserved Populations program. The Assistant Secretary may use these priorities for competitions in fiscal year (FY) 2002 and in later years. We take this action to focus on meeting the needs of traditionally underserved populations. We intend these priorities to enhance and improve the capacity of minority entities to compete for Rehabilitation Services Administration (RSA) discretionary grants and to improve services provided to minority people with disabilities under programs that are authorized under the Rehabilitation Act of 1973, as amended (the Act).

DATES: We must receive your comments on or before December 28, 2001.

ADDRESSES: Address all comments about these proposed priorities to Ellen Chesley, U.S. Department of Education, 400 Maryland Avenue, SW., room 3318, Switzer Building, Washington, DC 20202-2649. If you prefer to send your comments through the Internet, use the following address: Ellen.Chesley@ed.gov

You must include the term “Capacity Building for Traditionally Underserved Populations” in the subject line of your electronic message.

FOR FURTHER INFORMATION CONTACT: Ellen Chesley. Telephone: (202) 205-9481 or via Internet: Ellen.Chesley@ed.gov

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 3414, Switzer Building, 330 C Street SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, you may call (202) 205-8113 or (202) 260-9895. If you use a TDD, you may call the Federal Information Relay Service (FIRS) at 1-800-877-8339.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice in the Federal Register. When inviting applications we designate the priorities as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75.105(c)(1)).

Priorities: Capacity Building for Traditionally Underserved Populations General

The authority for us to establish priorities under the Capacity Building for Traditionally Underserved Populations program by reserving funds to support training, technical assistance, capacity building, and service improvement activities is in section 21 of the Act (29 U.S.C. 718b). Under this program, we make awards to public agencies and private agencies and organizations, including institutions of higher education, Indian tribes, and tribal organizations. This program is designed for the support of projects that would provide training, technical assistance, or related activities in order to improve services provided under the Act, especially services provided to individuals from minority backgrounds. Further, section 21 speaks to enhancing the capacity and increasing the participation of “minority entities” in programs funded under the Act. “Minority entity” is defined under section 21(b)(5) of the Act as a historically Black college or university, Hispanic-serving institution of higher education, American Indian tribal college or university, or another institution of higher education whose minority student enrollment is at least 50 percent.

Under section 21 of the Act, RSA and the National Institute on Disability and Rehabilitation Research (NIDRR) reserve 1 percent of funds budgeted for titles II, III, VI, and VII of the Act to carry out activities related to improving services to people with disabilities from racial and ethnic minority backgrounds. Further, section 21 provides that one of the following three types of awards be made to carry out section 21 activities: (1) Making awards to minority entities and Indian tribes to carry out activities under the programs authorized under titles II, III, VI, and VII. (2) Making awards to minority entities and Indian tribes to conduct research, training, technical assistance, or a related activity to improve services provided under the Act, especially services provided to individuals from minority backgrounds. (3) Making awards to a State or a public or a private nonprofit agency or organization, such as an institution of higher education or an Indian tribe, to provide outreach and technical assistance to minority entities and Indian tribes to promote their participation in activities funded under the Act, including assistance to enhance their capacity to carry out those activities.

We propose to fund projects that would focus on training, technical assistance, or related activities that would improve services provided under the Act, especially services provided to individuals from racial and ethnic minority backgrounds.

Proposed Priority 1—Train Staff of the Independent Living Services for Older Individuals Who Are Blind Program

Background: According to internal RSA staff review of narrative reports by grantees of the Independent Living Services for Older Individuals Who Are Blind program, statistics show that an increasing number of minorities, especially African-Americans, will develop blindness and other significant visual impairments due to other medical conditions, such as diabetes and glaucoma. Further, in large States like California and Florida with significant racial and ethnic minority populations, statistics have shown that these populations are underserved.

In a recent analysis of this program's grantees' annual reports conducted by the Mississippi State University Rehabilitation and Research Training Center, two significant findings suggest that (1) of those served by this program, less than 10 percent were racial and ethnic minority consumers, and (2) racial and ethnic minority consumers are receiving information about techniques of daily living services in their homes with less frequency than their white counterparts.

These findings by the Mississippi State University Rehabilitation and Research Training Center further suggest that outreach services and information about independent living services to older blind individuals are not being disseminated to African-Americans, Native Americans, Pacific Islanders, and Hispanic-Americans with glaucoma and diabetic retinopathy who live in urban areas.

Therefore, an awareness about the lack of peer support group activities within racially and ethnically diverse communities may not be realized by a significant number of grantees and other private organizations serving older blind individuals with visual disabilities.

Priority: We propose to fund a project that meets this priority. The project funded must meet the requirements in section 21(b)(2)(B) of the Act. A project must provide training that would—

(1) Increase the capacity and skills of staff of federally funded independent living programs serving older blind minority consumers in networking towards building trust within racial and ethnic minority communities;

(2) Increase the ability of staff of federally funded independent living programs serving older blind racial and ethnic minority consumers to identify and build partnerships with key or specific organizations and resources that provide infrastructure supports and specialized services to racial and ethnic minority consumers and their families;

(3) Increase the skills and capacity of staff of federally funded independent living programs serving older blind racial and ethnic minority consumers to understand family and community values and traditions of aging racial and ethnic minority consumers that will lead to improved methods of effective communication and dissemination of information about independent living services and other related resources for aging individuals with visual disabilities.

A project must—

(1) Partner or collaborate with other key institutions and agencies that have expertise in this training, technical assistance, and networking area;

(2) Develop a regional training and technical assistance activity that will enhance and improve the knowledge and skills of staff of federally funded independent living programs (i.e., field professionals and direct service providers) serving older blind consumers and improve outreach to racial and ethnic minority consumers and communities to increase their involvement in the independent living program funded under the Act;

(3) Provide training and technical assistance based upon a needs assessment of the region or geographical area being assisted;

(4) Include an evaluation component based upon clear, specific performance and outcome measures; and

(5) Report the results of the evaluation in its annual performance report.

Training must focus on the following:

(1) Specific methods on how to integrate and build alliances with key organizations, institutions, and individuals within a community to reach older individuals who are blind from racial and ethnic minority backgrounds.

(2) Specific training on how to identify, develop, and evaluate appropriate mediums of communication in disseminating critical information about this program.

(3) Specific training on the definitions of blindness and disability in the context of racial and ethnic minority cultures and the attitudes associated with these terms.

(4) Specific training on the implication of health-related conditions associated with certain racial and ethnic minority groups (i.e., diabetic retinopathy, glaucoma, hypertension, etc.).

(5) Specific training on what are some of the “promising practices” that are currently being used to educate consumers from racial and ethnic minority groups about these medical conditions and their relationship to blindness.

Proposed Priority 2—Community Rehabilitation Programs

Background: Section 21 of the Act states that minorities tend to have a disproportionately high rate of disability and that patterns of inequitable treatment have been documented in all major junctures of the vocational rehabilitation process. According to section 21 of the Act, as compared to white Americans, a larger percentage of African-American applicants to the vocational rehabilitation (VR) system are denied acceptance. Of applicants accepted for service, a larger percentage of African-American cases are closed without being rehabilitated. Minorities are provided less training than their white counterparts. Consistently, less money is spent on minorities than on their white counterparts.

Priority: We propose to fund projects that meet the priority. Projects funded must meet the requirements in section 21(b)(2)(B) of the Act.

Projects must—

(1) Focus on referring more minorities currently served by community rehabilitation programs having service agreements, as well as those not having service agreements, to the vocational rehabilitation system;

(2) Target community rehabilitation programs serving large numbers of minorities with disabilities;

(3) Involve partnerships with community rehabilitation programs that serve significant numbers of minorities with disabilities;

(4) Provide training on diversity;

(5) Develop and conduct a survey that looks at why clients and consumers from minority backgrounds are reluctant to enter, remain in, or successfully exit the vocational rehabilitation program;

(6) Design and implement strategies that address the findings of the survey to increase the numbers of clients and consumers from minority backgrounds who successfully navigate through the vocational rehabilitation system;

(7) Identify effective practice models for service provision to unserved and underserved populations;

(8) Disseminate those models across the United States to community rehabilitation program sites used by minority persons with disabilities;

(9) Disseminate information about the vocational rehabilitation program and its potential benefits to minorities and other appropriate community agencies and organizations involved in community outreach activities;

(10) Enhance the capacity of clinics and outreach personnel to detect and respond to potential clients and consumers who are reluctant to enter the vocational rehabilitation system;

(11) Employ public relations and marketing strategies to highlight the vocational rehabilitation program in minority communities;

(12) Include an evaluation component based upon clear, specific performance and outcome measures; and

(13) Report the results of the evaluation in its annual performance report.

Proposed Priority 3—Establishing New Rehabilitation Training Programs

Background: Section 21(a)(4) addresses the need for recruitment efforts within vocational rehabilitation at the level of preservice training, continuing education, and in-service training to focus on bringing larger numbers of minorities into the vocational rehabilitation profession in order to provide appropriate practitioner knowledge, role models, and sufficient manpower to address the clearly changing demography of vocational rehabilitation. This recruitment effort clearly can be addressed by increasing the number of rehabilitation training programs at minority institutions of higher education, particularly at the associate degree, undergraduate degree, and graduate degree levels.

Priority: We propose to fund projects that meet the following priority. Projects funded must meet the requirements in section 21(b)(2)(B) of the Act.

Projects must—

(1) Enhance and increase the capacity of minority institutions of higher education to prepare more individuals for careers in the public vocational rehabilitation program, including individuals from minority backgrounds;

(2) Be located at minority institutions of higher education, including community colleges whose minority student enrollment is at least 50 percent, that are interested in establishing new first-time rehabilitation training programs at the associate degree, undergraduate degree, and graduate degree levels;

(3) Include an evaluation component based upon clear, specific performance and outcome measures; and

(4) Report the results of the evaluation in its annual performance report.

Proposed Priority 4—Capacity Building for Minority Entities

Priority: We propose to fund projects that meet the priority. Projects funded must meet the requirements in section 21(b)(2)(C) of the Act.

Projects must—

(1) Provide outreach, capacity building, and technical assistance to minority entities and Indian tribes to promote their participation in activities funded under the Act, including assistance to carry out those activities;

(2) Provide a variety of training and technical assistance activities, including grant writing workshops that focus on RSA and NIDRR discretionary grant programs, the peer review process, selection criteria, training on disability legislation (i.e. Americans with Disabilities Act, Rehabilitation Act, etc.), and technical assistance to minority entities that are first-time recipients of grants funded under the Act in order to increase their ability to carry out their grants;

(3) Include an evaluation component based upon clear, specific performance and outcome measures; and

(4) Report the results of the evaluation in its annual performance report.

National Education Goals

The eight National Education Goals focus the Nation's education reform efforts and provide a framework for improving teaching and learning.

These proposed priorities would address the National Education Goal that every adult American will be literate and will possess the knowledge and skills necessary to compete in a global economy and exercise the rights and responsibilities of citizenship.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number 84.315, Capacity Building for Traditionally Underserved Populations)

Program Authority: 29 U.S.C. 718b.

Dated: November 21, 2001.
Andrew J. Pepin,
Acting Assistant Secretary for Special Education and Rehabilitative Services.

[FR Doc. 01-29509 Filed 11-27-01; 8:45 am]

BILLING CODE 4000-01-P